DEPARTMENT OF JUSTICE

Drug Enforcement Administration

Agency Information Collection Activities: Proposed Collection; Comment Requested

ACTION: 30-day notice of information collection under review; Extension of a currently approved collection; Application for Registration (DEA Form 363) and Application for Registration Renewal (DEA Form 363a).

The Drug Enforcement Administration (DEA) has submitted the following information collection request to the Office of Management and Budget (OMB) for review and approval in accordance with the Paperwork Reduction Act of 1995. The proposed information collection is published to obtain comments from the public and affected agencies. This proposed information collection was previously published in the Federal Register on June 10, 2002, Volume 67, Number 111, Pages 39745-39746 allowing for a 60-day public comment period.

The purpose of this notice is to allow an additional 30 days for public comment until September 16, 2002. This process is conducted in accordance with 5 CFR 1320.10.

Written comments and/or suggestions regarding the item(s) contained in this notice, especially regarding the estimated public burden and associated response time, should be directed to the Office of Management and Budget, Office of Information and Regulatory Affairs, Attention: Department of Justice Desk Officer, Washington, DC 20503. Additionally, comments may be submitted to OMB via facsimile to 202-395-5806.

Written comments and suggestions from the public and affected agencies concerning the proposed collection of information are encouraged. Your comments should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: Extension of a currently approved collection.

(2) The title of the form/collection: Application for Registration (DEA Form 363) and Application for Registration Renewal (DEA Form 363a).

(3) The agency form number, if any, and the applicable component of the Department sponsoring the collection:

Form No.: DEA—Forms 363, 363a.

Applicable component of the Department sponsoring the collection: Office of Diversion Control, Drug Enforcement Administration, U.S. Department of Justice.

(4) Affected public who will be asked or required to respond, as well as a brief abstract:

Primary: Business or other for-profit.

Other: Not-for-profit institutions.

Abstract: Practitioners who dispense narcotic drugs to individuals for maintenance or detoxification treatment must register with the DEA under the Narcotic Addiction Treatment Act of 1974. Registration is needed for control measures and is used to prevent diversion.

(5) An estimate of the total number of respondents and the amount of time estimated for an average respondent to respond/reply:

DEA 363: 100 responses × .5 hours = 50 hours.

DEA 373a: 1,151 responses × .5 hours = 575.5 hours.

Total Annual Burden Hours: 625.5 hours.

(6) An estimate of the total public burden (in hours) associated with the collection: 625.5 annual burden hours.

If additional information is required contact: Robert B. Briggs, Clearance Officer, Information Management and Security Staff, Justice Management Division, United States Department of Justice, Patrick Henry Building, Suite 1600, 601 D Street, NW., Washington, DC 20530.

Dated: August 12, 2002.
Robert B. Briggs,
Department Clearance Officer, Department of Justice.

[FR Doc. 02-20801 Filed 8-15-02; 8:45 am]

BILLING CODE 4410-09-M